ENVIRONMENTAL PROTECTION AGENCY

40 CFR Part 63

[EPA-HQ-OAR-2024-0404; FRL 12195-02-OAR]

Section 610 Review of National Emission Standards for Hazardous Air Pollutants for Brick and Structural Clay Products Manufacturing and Clay Ceramics Manufacturing

AGENCY: Environmental Protection Agency (EPA).

ACTION: Request for comments on Regulatory Flexibility Act 610 review.

SUMMARY: Pursuant to section 610 of the Regulatory Flexibility Act, the Environmental Protection Agency (EPA) is announcing the review of the National Emission Standards for Hazardous Air Pollutants for Brick and Structural Clay Products Manufacturing; and Clay Ceramics Manufacturing (Brick and Clay 610 Review). As part of this review, the EPA will consider and solicit comments on the following factors: the continued need for the rule; the nature of complaints or comments received concerning the rule; the complexity of the rule; the extent to which the rule overlaps, duplicates, or conflicts with other Federal, State, or local government rules; and the degree to which the technology, economic conditions or other factors have changed in areas affected by the rule.

DATES: Comments must be received on or before May 30, 2025.

ADDRESSES: You may send comments, identified by Docket ID No. EPA-HQ-OAR-EPA-HQ-OAR-2024-0404, by any of the following methods:

• Federal eRulemaking Portal: www.regulations.gov (our preferred method). Follow the online instructions for submitting comments.

• Mail: U.S. Environmental Protection Agency, EPA Docket Center, Office of Regulatory Policy and Management Docket, Mail Code 28221T, 1200 Pennsylvania Avenue NW, Washington, DC 20460.

• Hand Delivery or Courier: EPA Docket Center, WJC West Building, Room 3334, 1301 Constitutional Avenue NW, Washington, DC 20004. The Docket Center's hours of operation are 8:30 a.m.-4:30 p.m., Monday-Friday (except Federal Holidays).

Instructions: All submissions received must include the Docket ID No. for this rulemaking. Comments received may be posted without change to www.regulations.gov, including any personal information provided.

FOR FURTHER INFORMATION CONTACT: Brian Storey, Office of Air and Radiation, Sector Policies and Programs Division (Mail Code D243-04), Environmental Protection Agency, 109 T.W. Alexander Drive, RTP, NC 27711; telephone number: (919) 541-1103; email address: storey.brian@epa.gov.

SUPPLEMENTARY INFORMATION:

I. General Information

Section 610 of the Regulatory Flexibility Act requires agencies to review, within 10 years of promulgation, each rule that has or will have a significant economic impact on a substantial number of small entities (SISNOSE). The EPA undertakes section 610 reviews to decide whether a rule should continue unchanged, be amended, or withdrawn. Small entities are encouraged to provide comments and propose changes to the rule; in particular, how the rule can be made clearer, more effective, or if there are conflicting or overlapping requirements with other Federal or State regulations.

II. Section 610 Review of National Emission Standards for Hazardous Air Pollutants for Brick and Structural Clay Products Manufacturing; and Clay Ceramics Manufacturing

On October 26, 2015, EPA published a final rule to amend the National Emission Standards for Hazardous Air Pollutants (NESHAP) for Brick and Structural Clay Products (BSCP) Manufacturing and Clay Ceramics Manufacturing (40 CFR part 63, subparts JJJJJ and KKKKK respectively) to finalize maximum achievable control technology (MACT) standards for mercury, non-mercury metal HAP (or particulate matter (PM) as a surrogate), dioxins/furans (Clay Ceramics only), health-based standards for acid gas HAP; and work practice standards, where applicable (see 80 FR 65470). This new entry in the regulatory agenda announces that EPA will review the October 26, 2015 action pursuant to section 610 of the Regulatory Flexibility Act (5 U.S.C. 610) to determine if the provisions that could affect small entities should be maintained or should be rescinded or amended to minimize adverse economic impacts on small entities. As part of this review, EPA will consider and solicit comments on the following factors: (1) The continued need for the rule; (2) the nature of complaints or comments received concerning the rule; (3) the complexity of the rule; (4) the extent to which the rule overlaps, duplicates, or conflicts with other Federal, State, or local government rules; and (5) the degree to which the technology, economic conditions or other factors have changed in the area affected by the rule. Comments must be received within 60 days of this document. In submitting comments, please reference Docket ID EPA-HQ-OAR-EPA-HQ-OAR-2024-0404 and follow the instructions provided in the instructions provided in the ADDRESSES section of this document. The results of EPA's review will be summarized in a report and placed in the rulemaking docket referenced above. This docket can be accessed at www.regulations.gov.

William Nickerson,
Director, Office of Regulatory Policy and Management.

[FR Doc. 2025-05385 Filed 3-28-25; 8:45 am]

BILLING CODE 6560-50-P